DEPARTMENT OF COMMERCE

International Trade Administration

[C-533-825]

Final Results of Countervailing Duty Administrative Review: Polyethylene Terephthalate Film, Sheet, and Strip from India

AGENCY: Import Administration, International Trade Administration, Department of Commerce.

SUMMARY: On August 10, 2005, the Department of Commerce (the Department) published in the Federal Register its preliminary results of administrative review of the countervailing duty order on polyethylene terephthalate film, sheet, and strip from India for the period January 1, 2003, through December 31, 2003. See Notice of Preliminary Results and Rescission in Part of Countervailing Duty Administrative Review: Polyethylene Terephthalate Film, Sheet, and Strip from India, 70 FR 46483 (August 10, 2005) (Preliminary Results). The Department has now completed this administrative review in accordance with section 751(a) of the Tariff Act of 1930, as amended (the Act).

Based on information received since the Preliminary Results and our analysis of the comments received, the Department has revised the net subsidy rates for Jindal Polyester Limited/Jindal Poly Films Limited of India (Jindal) and Polyplex Corporation Ltd. (Polyplex), as discussed in the “Memorandum from Stephen J. Claeys, Deputy Assistant Secretary, to David M. Spooner, Assistant Secretary for Import Administration concerning the Final Results of Countervailing Duty Administrative Review: Polyethylene Terephthalate Film, Sheet, and Strip from India” (Decision Memorandum) dated concurrently with this notice and hereby adopted by this notice. The final net subsidy rates for the reviewed company are listed below in the section entitled “Final Results of Review.”

EFFECTIVE DATE: February 13, 2006.

FOR FURTHER INFORMATION CONTACT: Jeff Pedersen at (202) 482-2769 or Drew Jackson at (202) 482-4406, AD/CVD Operations, Office 4, Import Administration, U.S. Department of Commerce, 14th Street and Constitution Avenue, NW, Washington, DC 20230.

SUPPLEMENTARY INFORMATION:

Background

On August 10, 2005, the Department published its Preliminary Results in the Federal Register. We invited interested parties to comment on the results. On September 12, 2005, Dupont Teijin Films, Mitsubishi Polyester Film of America, Toray Plastics (America) and SKC America, Inc. (collectively, the petitioners), the Government of India (the GOI), as well as Polyplex and Jindal, filed case briefs. Polyplex, Jindal, and the petitioners filed rebuttal briefs on September 19, 2005.

Pursuant to 19 CFR 351.213(b), this review covers only those producers or exporters of the subject merchandise for which a review was specifically requested. Accordingly, this review covers Jindal and Polyplex, and evaluates sixteen programs. The period of review (“POR”) is January 1, 2003, through December 31, 2003.

Scope of the Order

The products covered by this order are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00. HTSUS subheadings are provided for convenience and customs purposes. The written description of the scope of this order is dispositive.

Analysis of Comments Received

All issues raised in the case and rebuttal briefs by parties to this review are addressed in the Decision Memorandum. A list of the issues contained in the Decision Memorandum is attached to this notice as Appendix I. Parties can find a complete discussion of all issues raised in this review and the corresponding recommendations in this public memorandum, which is on file in the Central Records Unit in room B-099 of the main Commerce building. In addition, a complete version of the Decision Memorandum can be accessed directly at http://www.ia.ita.doc.gov/frn/index.html. The paper copy and electronic version of the Decision Memorandum are identical in content.

Final Results of Review

In accordance with 19 CFR 351.221(b)(5), we calculated individual subsidy rates for the producer/exporters, Jindal and Polyplex, subject to this review. We determine the net subsidy for Jindal to be 15.07 percent ad valorem, and the net subsidy for Polyplex to be 9.24 percent ad valorem.

Assessment and Cash Deposit Instructions

We will instruct U.S. Customs and Border Protection (CBP) to assess countervailing duties as indicated above. The Department will instruct CBP to collect cash deposits of estimated countervailing duties as detailed above, based upon the f.o.b. invoice price on all shipments of the subject merchandise from the producer/exporters under review, entered, or withdrawn from warehouse, for consumption on or after the date of publication of the final results of this administrative review.

We will instruct CBP to continue to collect cash deposits for non-reviewed companies at the most recent company-specific or country-wide rate applicable to the company. Accordingly, the cash deposit rates that will be applied to non-reviewed companies covered by this order will be the rate for that company established in the most recently completed administrative proceeding conducted under the URAA. See Notice of Countervailing Duty Order: Polyethylene Terephthalate Film, Sheet, and Strip (PET film) from India, 67 FR 44179 (July 1, 2002). These rates shall apply to all non-reviewed companies until a review of a company assigned this rate is requested. In addition, for the period January 1, 2003, through December 31, 2003, the assessment rates applicable to all non-reviewed companies covered by this order are the cash deposit rates in effect at the time of entry.

In the Preliminary Results we determined that Jindal Polyester Limited had changed its name to Jindal Poly Films Limited. We stated that if we found no reason to reverse this decision, we would update our instructions to CBP to reflect this name change. No parties commented on this and no other new information or evidence of changed circumstances has been presented to warrant reconsideration of this finding. Thus we plan to issue instructions to CBP to reflect this name change.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are issued and published in accordance with sections 751(a)(1) and 777(i)(1) of the Act.

Dated: February 6, 2006.
David M. Spooner,
Assistant Secretary for Import Administration.

Appendix I—Issues and Decision Memorandum

I. List of Issues

Comment 1: Whether the Advance License Program Provides a Countervailable Subsidy

Comment 2: Sales Tax Incentives

Comment 3: Whether the Department Should Exclude an IDBI Loan in Calculating the Short-Term Benchmark

Comment 4: Whether the Department Should Consider a Certain EPCGS License as a Grant or as an Interest-Free Loan

Comment 5: Calculation of the Countervailing Duty Rate Under the Advance License Program

Comment 6: Interest Rates Used to Calculate the Countervailing Duty Rate Under the EPCGS Program

Comment 7: The Proper Allocation of EPCGS and EOU Benefits

Comment 8: Whether the Cash Deposit Rate Should Include the 80 HHC Tax Exemption Countervailing Duty Rate

Comment 9: Inclusion of Benefits Received by Non-Producing Units in Calculating Jindal's EOU Countervailing Duty Rate

Comment 10: Calculation of Jindal's Countervailing Duty Rate Under the EOU Program

II. Background Information and Subsidies Valuation Information

III. Subsidies Valuation Information

IV. Analysis of Programs

A. Programs Conferring Subsidies

1. Pre-Shipment and Post-Shipment Export Financing

2. Duty Entitlement Passbook Scheme (DEPS)

3. Export Promotion Capital Goods Scheme (EPCGS)

4. Income Tax Exemption Scheme 80 HHC

5. Capital Subsidy

6. Sales Tax Incentives

I. State of Uttaranchal/Uttar Pradesh

II. State of West Bengal

III. State of Gujurat

IV. State of Madhya Pradesh

V. State of Maharashtra

VI. State of Himachal Pradesh

B. Programs Determined to Be Not Used

1. Export Oriented Units Programs not used

A. Duty Drawback on Furnace Oil Procured from Domestic Oil Companies

2. Duty Entitlement Passbook Scheme (DEPS)

3. The Sale and Use of Special Import Licenses (SILs) for Quality and SILs for Export Houses, Trading Houses, Star Trading Houses, or Superstar Trading Houses (GOI Program)

4. Exemption of Export Credit from Interest Taxes

5. Loan Guarantees from the GOI

6. Capital Incentive Schemes (SOM and SUP Program)

7. Waiving of Interest on Loan by SICOM Limited (SOM Program)

8. Infrastructure Assistance Schemes (State of Gujarat Program)

V. Analysis of Comments

[FR Doc. E6-1989 Filed 2-10-06; 8:45 am]

BILLING CODE 3510-DS-S